OFFICE OF THE UNITED STATES TRADE REPRESENTATIVE

Termination of Sanctions Imposed on Certain Member States of the European Communities Pursuant to Title VII of the Omnibus Trade and Competitiveness Act of 1988

AGENCY: Office of the United States Trade Representative.

ACTION: Termination of sanctions imposed on certain Member States of the European Communities pursuant to Title VII of the Omnibus Trade and Competitiveness Act of 1988.

SUMMARY: The United States Trade Representative has determined to terminate sanctions imposed on certain EC Member States (Austria, Belgium, Denmark, Finland, France, Ireland, Italy, Luxembourg, the Netherlands, Sweden, and the United Kingdom).

This determination is based on assurances from the European Communities that EC telecommunications operators are no longer subject to discriminatory requirements, and that purchasing by EC telecommunications operators are now based solely on commercial considerations, not EC procurement rules. The termination of sanctions is effective on March 1, 2006.

FOR FURTHER INFORMATION CONTACT: Jean Heilman Grier, Senior Procurement Negotiator, Office of the United States Trade Representative, (202) 395-9476 or Jean_Grier@ustr.eop.gov.

Determination Relating to Sanctions Imposed Under Title VII of the Omnibus Trade and Competitiveness Act of 1988

On May 28, 1993, the United States imposed sanctions on certain Member States of the European Communities (EC) under Title VII of the Omnibus Trade and Competitiveness Act of 1988 (19 U.S.C. 2515, as amended) for maintaining, in government procurement of telecommunications goods, a significant and persistent pattern or practice of discrimination against U.S. products or services that results in identifiable harm to U.S. businesses (58 FR 31136). In June 1993, the EC imposed equivalent countermeasures against the United States.

On March 10, 1994, then-USTR Michael Kantor terminated the sanctions against the Federal Republic of Germany based on a determination that Germany had eliminated the discrimination identified under Title VII (59 FR 11360). The sanctions currently apply to 11 EC Member States: Austria, Belgium, Denmark, Finland, France, Ireland, Italy, Luxembourg, the Netherlands, Sweden, and the United Kingdom.

On March 31, 2004, the European Communities adopted new EC Directives on Government Procurement, which formally exclude telecommunications operators from their scope. I have received official assurances from the EC that the purchasing by EC telecommunications operators is no longer subject to EC procurement rules, but to purely commercial considerations, and that the EC will also remove its countermeasures against the United States.

Pursuant to the authority vested in me by the President of the United States in Presidential Determination No. 93-16, I have determined that the EC Member States referenced above have eliminated the discrimination identified under Title VII and have therefore terminated sanctions effective on March 1, 2006.

Rob Portman,
United States Trade Representative.

[FR Doc. E6-2810 Filed 2-27-06; 8:45 am]

BILLING CODE 3190-W6-P